DEPARTMENT OF ENERGY

Federal Energy Regulatory Commission

Combined Notice of Filings #1

August 07, 2008.

Take notice that the Commission received the following electric rate filings:

Docket Numbers: ER01-2968-008.

Applicants: FirstEnergy Operating Companies; Pennsylvania Power Company; FirstEnergy Solutions Corp.

Description: FirstEnergy Solutions Corporation submits revisions to their Market-Based Rate Power Sales, FERC Electric Tariff, First Revised Volume 1.

Filed Date: 07/31/2008.

Accession Number: 20080805-0213.

Comment Date: 5 p.m. Eastern Time on Thursday, August 21, 2008.

Docket Numbers: ER02-1081-004.

Applicants: Indeck-Oswego L.P.

Description: Indeck-Oswego Limited Partnership submits clean and redlined amended tariff sheets that do not contain the change in status notification provisions pur to Order 697.

Filed Date: 08/04/2008.

Accession Number: 20080806-0048.

Comment Date: 5 p.m. Eastern Time on Monday, August 25, 2008.

Docket Numbers: ER03-295-003; ER04-1194-001.

Applicants: SESCO Enterprises, LLC; SESCO Enterprises Canada, Ltd.

Description: SESCO Enterprises, LLC et al. submits clean and redlined amended Substitute Second Revised Sheet 1 et al. to FERC Electric Tariff, Original Volume 1 in compliance with Order 697.

Filed Date: 08/04/2008.

Accession Number: 20080806-0050.

Comment Date: 5 p.m. Eastern Time on Monday, August 25, 2008.

Docket Numbers: ER03-447-005.

Applicants: Black Oak Energy, LLC.

Description: Black Oak Energy, LLC submits clean and redlined amended tariff sheets that do not contain the change in status notification provisions.

Filed Date: 08/04/2008.

Accession Number: 20080806-0052.

Comment Date: 5 p.m. Eastern Time on Monday, August 25, 2008.

Docket Numbers: ER04-1153-004.

Applicants: Cam Energy Trading, LLC.

Description: CAM Energy Trading LLC submits Substitute Second Revised Sheet 1 et al. to Revised Rate Schedule FERC 1 re Order 697.

Filed Date: 08/04/2008.

Accession Number: 20080806-0053.

Comment Date: 5 p.m. Eastern Time on Monday, August 25, 2008.

Docket Numbers: ER04-31-002; ER06-1230-001; ER06-1231-001; ER06-1232-002; ER06-1233-001; ER07-808-001.

Applicants: Epic Merchant Energy, L.P.; EPIC Merchant Energy NE, L.P.; EPIC Merchant Energy NY, L.P.; EPIC NJ PA, L.P.; EPIC Merchant Energy Midwest, L.P.; Epic Merchant Energy CA, LLC.

Description: EPIC Merchant Energy, LP et al. submits triennial market power updates and Substitute First Revised Sheet 1 et al. to FERC Electric Tariff, Original Volume 1 pursuant to Order 697.

Filed Date: 08/04/2008.

Accession Number: 20080806-0047.

Comment Date: 5 p.m. Eastern Time on Monday, August 25, 2008.

Docket Numbers: ER04-449-017.

Applicants: New York Independent System Operator, Inc.

Description: New York Transmission Owners et al. submits amendments to their Open Access Transmission Tariff and the Market Administration and Control Area Services Tariff pursuant to the Commission's 3/21/08 Order et al. Part 1 of 7.

Filed Date: 08/05/2008.

Accession Number: 20080807-0183.

Comment Date: 5 p.m. Eastern Time on Tuesday, August 26, 2008.

Docket Numbers: ER04-817-003.

Applicants: Indeck Maine Energy, L.L.C.

Description: Indeck Maine Energy, LLC submits clean and redlined amended Substitute First Revised Sheet 1 et al. to FERC Electric Tariff, Revised Volume 1 in compliance with Order 697.

Filed Date: 08/04/2008.

Accession Number: 20080806-0051.

Comment Date: 5 p.m. Eastern Time on Monday, August 25, 2008.

Docket Numbers: ER05-235-003.

Applicants: El Paso Marketing, L.P.

Description: El Paso Marketing, LP submits revised rate schedule reflecting additional changes as requested by Commission Staff pursuant to Order 697 and 697-A.

Filed Date: 08/04/2008.

Accession Number: 20080806-0046.

Comment Date: 5 p.m. Eastern Time on Monday, August 25, 2008.

Docket Numbers: ER06-510-002.

Applicants: Energy Endeavors LLC.

Description: Energy Endeavors, LLC submits clean and redlined amended tariff sheets that do not contain the change in status notification provisions.

Filed Date: 08/04/2008.

Accession Number: 20080806-0054.

Comment Date: 5 p.m. Eastern Time on Monday, August 25, 2008.

Docket Numbers: ER06-740-003.

Applicants: Indeck Energy Services of Silver Springs.

Description: Indeck Energy Services of Silver Springs, Inc submits clean and redlined amended tariff sheets that do not contain the change in status notification provisions pur to Order 697.

Filed Date: 08/04/2008.

Accession Number: 20080806-0049.

Comment Date: 5 p.m. Eastern Time on Monday, August 25, 2008.

Docket Numbers: ER07-818-001.

Applicants: Indeck-Olean Limited Partnership.

Description: Indeck-Olean Limited Partnership submits their triennial market power updates, & accept their proposed tariffs for filing designated as Substitute Second Revised Sheet 1 et al. to FERC Electric Tariff Second Revised Volume 1.

Filed Date: 08/04/2008.

Accession Number: 20080806-0055.

Comment Date: 5 p.m. Eastern Time on Monday, August 25, 2008.

Docket Numbers: ER07-1215-005; ER07-265-004; ER08-100-004.

Applicants: The Royal Bank of Scotland plc; Sempra Energy Solutions LLC; Sempra Energy Trading LLC.

Description: Petition for acceptance of revised market-based rate schedules re Sempra Energy Trading LLC et al.

Filed Date: 07/30/2008.

Accession Number: 20080801-0105.

Comment Date: 5 p.m. Eastern Time on Wednesday, August 20, 2008.

Docket Numbers: ER08-1108-002; ER98-3774-005; ER06-169-003; ER07-1040-002; ER08-1330-001; ER08-1331-001; ER08-1332-001.

Applicants: Syracuse Energy Corporation; SUEZ Energy Marketing NA, Inc.; Hopewell Cogeneration Ltd Partnership; Hot Spring Power Company, LLC; Chehalis Power Generating, LLC; Choctaw Gas Generation, LLC; Choctaw Generation Limited Partnership.

Description: Syracuse Energy Corporation et al. submits notification of a non-material change in status with respect to their market-based rate authority.

Filed Date: 08/04/2008.

Accession Number: 20080806-0042.

Comment Date: 5 p.m. Eastern Time on Monday, August 25, 2008.

Docket Numbers: ER08-1250-002.

Applicants: Haverhill North Coke Company.

Description: Haverhill North Coke Company submits a revised market-based rates tariff that removes the language concerning sales to affiliates with a franchised service territory.

Filed Date: 08/04/2008.

Accession Number: 20080806-0041.

Comment Date: 5 p.m. Eastern Time on Monday, August 18, 2008.

Docket Numbers: ER08-1267-001.

Applicants: PJM Interconnection, L.L.C.

Description: PJM Interconnection LLC submits substitute agreements that supersede the Original PPL Renewable Agreements.

Filed Date: 08/04/2008.

Accession Number: 20080806-0043.

Comment Date: 5 p.m. Eastern Time on Monday, August 25, 2008.

Docket Numbers: ER08-1348-000.

Applicants: Hardee Power Partners Limited.

Description: Hardee Power Partners Limited submits the Hardee Switchyard Facilities Sharing Agreement dated 6/20/08 with Seminole Electric Coop, Inc.

Filed Date: 07/31/2008.

Accession Number: 20080804-0230.

Comment Date: 5 p.m. Eastern Time on Thursday, August 21, 2008.

Docket Numbers: ER08-1351-000.

Applicants: Connecticut Yankee Atomic Power Company.

Description: Connecticut Yankee Atomic Power Company submits Section 205 Filing to reduce certain rates to its wholesale customers pursuant to its wholesale power contracts etc.

Filed Date: 07/31/2008.

Accession Number: 20080805-0078.

Comment Date: 5 p.m. Eastern Time on Thursday, August 21, 2008.

Docket Numbers: ER08-1354-000.

Applicants: Occidental Chemical Corporation.

Description: Occidental Chemical Corporation submits an application for Order Authorizing Market-Based Rates and Request for Certain Waivers and Blanket Authorization, et al.

Filed Date: 08/05/2008.

Accession Number: 20080807-0181.

Comment Date: 5 p.m. Eastern Time on Tuesday, August 26, 2008.

Docket Numbers: ER08-1355-000.

Applicants: Southern California Edison Company.

Description: Southern California Edison Co submits a petition for waiver of tariff provisions to accommodate transition to reformed interconnection process etc.

Filed Date: 08/04/2008.

Accession Number: 20080805-0109.

Comment Date: 5 p.m. Eastern Time on Monday, August 25, 2008.

Docket Numbers: ER08-1356-000.

Applicants: Maine Yankee Atomic Power Company.

Description: Maine Yankee Atomic Power Co submits a revised formula rate schedule and supporting testimony and exhibits in compliance with FERC's Order 614.

Filed Date: 08/01/2008.

Accession Number: 20080805-0110.

Comment Date: 5 p.m. Eastern Time on Friday, August 22, 2008.

Docket Numbers: ER08-1357-000.

Applicants: Southwest Power Pool, Inc.

Description: Southwest Power Pool, Inc submits a partially executed Service Agreement for Network Integration Transmission Service with Golden Spread Electric Coop, Inc.

Filed Date: 08/05/2008.

Accession Number: 20080807-0004.

Comment Date: 5 p.m. Eastern Time on Tuesday, August 26, 2008.

Docket Numbers: ER08-1358-000.

Applicants: Southwest Power Pool, Inc.

Description: Southwest Power Pool, Inc submits an executed Service Agreement for Network Integration Transmission Service with Southwestern Public Service Co.

Filed Date: 08/05/2008.

Accession Number: 20080807-0003.

Comment Date: 5 p.m. Eastern Time on Tuesday, August 26, 2008.

Docket Numbers: ER08-1359-000.

Applicants: Southwest Power Pool, Inc.

Description: Southwest Power Pool, Inc submits an executed Service Agreement for Network Integration Transmission Service with Southwestern Public Service Company as Network Customer etc.

Filed Date: 08/05/2008.

Accession Number: 20080807-0002.

Comment Date: 5 p.m. Eastern Time on Tuesday, August 26, 2008.

Docket Numbers: ER08-1360-000.

Applicants: Duke Energy Carolinas, LLC.

Description: PacifiCorp submits the Second Amended and Restated Transmission Service and Operating Agreement with Utah Municipal Power Agency.

Filed Date: 08/05/2008.

Accession Number: 20080807-0001.

Comment Date: 5 p.m. Eastern Time on Tuesday, August 26, 2008.

Take notice that the Commission received the following open access transmission tariff filings:

Docket Numbers: OA07-42-003.

Applicants: Southern Company Services Inc.

Description: Compliance Filing of Southern Company to the Commission's July 2, 2008 Order.

Filed Date: 08/01/2008.

Accession Number: 20080801-5153.

Comment Date: 5 p.m. Eastern Time on Friday, August 22, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-18725 Filed 8-12-08; 8:45 am]

BILLING CODE 6717-01-P